DEPARTMENT OF HOMELAND SECURITY

Federal Emergency Management Agency

[Docket ID FEMA-2023-0002; Internal Agency Docket No. FEMA-B-2365]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Arizona:
Maricopa | City of Glendale (22-09-1673P). | The Honorable Jerry Weiers, Mayor, City of Glendale, 5850 West Glendale Avenue, Suite 451, Glendale, AZ 85301. | City Hall, 5850 West Glendale Avenue, Glendale, AZ 85301. | https://msc.fema.gov/portal/advanceSearch. | Nov. 24, 2023 | 040045
Maricopa | Unincorporated Areas of Maricopa County (22-09-1673P). | The Honorable Clint L. Hickman, Chair, Board of Supervisors, Maricopa County, 301 West Jefferson Street, 10th Floor, Phoenix, AZ 85003. | Flood Control District of Maricopa County, 2801 West Durango Street, Glendale, AZ 85301. | https://msc.fema.gov/portal/advanceSearch. | Nov. 24, 2023 | 040037
Yuma | Town of Wellton (22-09-1369P). | The Honorable Scott Blitz, Mayor, Town of Wellton, 28634 Oakland Avenue, Wellton, AZ 85356. | Town Hall, 28634 Oakland Avenue, Wellton, AZ 85356. | https://msc.fema.gov/portal/advanceSearch. | Dec. 6, 2023 | 040112
Arkansas:
Benton | City of Lowell (22-06-2961P). | The Honorable Chris Moore, Mayor, City of Lowell, 216 North Lincoln Street, Lowell, AR 72745. | City Hall, 216 North Lincoln Street, Lowell, AR 72745. | https://msc.fema.gov/portal/advanceSearch. | Nov. 2, 2023 | 050342
Benton | City of Springdale (22-06-2961P). | The Honorable Doug Sprouse, Mayor, City of Springdale, 201 Spring Street, Springdale, AR 72764. | City Hall, 201 Spring Street, Springdale, AR 72764. | https://msc.fema.gov/portal/advanceSearch. | Nov. 2, 2023 | 050219
California:
Orange | City of San Juan Capistrano (23-09-0982X). | The Honorable Howard Hart, Mayor, City of San Juan Capistrano, 30448 Rancho Viejo Road, San Juan Capistrano, CA 92675. | City Hall, 32400 Paseo Adelanto, San Juan Capistrano, CA 92675. | https://msc.fema.gov/portal/advanceSearch. | Nov. 17, 2023 | 060231
Riverside | City of Corona (22-09-1531P). | The Honorable Tony Daddario, Mayor, City of Corona, 400 South Vicentia Avenue, Corona, CA 92882. | City Hall, 400 South Vicentia Avenue, Corona, CA 92882. | https://msc.fema.gov/portal/advanceSearch. | Dec. 6, 2023 | 060250
Riverside | City of Corona (23-09-0461P). | The Honorable Tony Daddario, Mayor, City of Corona, 400 South Vicentia Avenue, Corona, CA 92882. | City Hall, 400 South Vicentia Avenue, Corona, CA 92882. | https://msc.fema.gov/portal/advanceSearch. | Nov. 9, 2023 | 060250
Riverside | City of Riverside (22-09-1386P). | The Honorable Patricia Lock Dawson, Mayor, City of Riverside, 3900 Main Street, Riverside, CA 92522. | Public Works Department, 3900 Main Street, 4th Floor, Riverside, CA 92522. | https://msc.fema.gov/portal/advanceSearch. | Dec. 6, 2023 | 060260
Riverside | City of Riverside (23-09-0172P). | The Honorable Patricia Lock Dawson, Mayor, City of Riverside, 3900 Main Street, Riverside, CA 92522. | Public Works Department, 3900 Main Street, 4th Floor, Riverside, CA 92522. | https://msc.fema.gov/portal/advanceSearch. | Nov. 14, 2023 | 060260
Riverside | Unincorporated Areas of Riverside County (22-09-1531P). | The Honorable Kevin Jeffries, Chair, Board of Supervisors, Riverside County, 4080 Lemon Street, 5th Floor, Riverside, CA 92501. | Riverside County, Flood Control and Water Conservation District, 1995 Market Street, Riverside, CA 92501. | https://msc.fema.gov/portal/advanceSearch. | Dec. 6, 2023 | 060245
Riverside | Unincorporated Areas of Riverside County (23-09-0172P). | The Honorable Kevin Jeffries, Chair, Board of Supervisors, Riverside County, 4080 Lemon Street, 5th Floor, Riverside, CA 92522. | Riverside County Flood Control and Water Conservation District, 1995 Market Street, Riverside, CA 92501. | https://msc.fema.gov/portal/advanceSearch. | Nov. 14, 2023 | 060245
San Joaquin | Unincorporated Areas of San Joaquin County (23-09-0364P). | The Honorable Robert Rickman, Chair, Board of Supervisors, San Joaquin County, 44 North San Joaquin Street, Suite 627, Stockton, CA 95202. | San Joaquin County, Public Works Department, 1810 East Hazelton Avenue, Stockton, CA 95205. | https://msc.fema.gov/portal/advanceSearch. | Nov. 9, 2023 | 060299
Florida:
Walton | City of Freeport (22-04-4474P). | The Honorable Russ Barley, Mayor, City of Freeport, 112 Highway 20 West, Freeport, FL 32439. | City Hall, 112 Highway 20 West, Freeport, FL 32439. | https://msc.fema.gov/portal/advanceSearch. | Nov. 9, 2023 | 120319
Walton | Unincorporated Areas of Walton County (22-04-4474P). | Danny Glidewell, District 2 Commissioner-Chair, Walton County, 76 North 6th Street, DeFuniak Springs, FL 32433. | Walton County Planning and Development Services Department, 31 Coastal Centre Boulevard, Santa Rosa Beach, FL 32459. | https://msc.fema.gov/portal/advanceSearch. | Nov. 9, 2023 | 120317
Hawaii: Maui | Maui County (22-09-0588P). | The Honorable Richard T. Bissen, Jr., Mayor, County of Maui, 200 South High Street, Kalana O Maui Building 9th Floor, Wailuku, HI 96793. | County of Maui Planning Department, One Main Plaza, 2200 Main Street, Suite 315, Wailuku, HI 96793. | https://msc.fema.gov/portal/advanceSearch. | Nov. 29, 2023 | 150003
Illinois: Kane | Village of Huntley (23-05-0909P). | Timothy J. Hoeft, Village President, Village of Huntley, 10987 Main Street, Huntley, IL 60142. | Village Hall, Engineering Department, 10987 Main Street, Huntley, IL 60142. | https://msc.fema.gov/portal/advanceSearch. | Nov. 13, 2023 | 170480
Minnesota:
Carver | City of Waconia (22-05-1488P). | The Honorable Nicole Warden, Mayor, City of Waconia, 201 South Vine Street, Waconia, MN 55387. | City Call, 201 South Vine Street, Waconia, MN 55387. | https://msc.fema.gov/portal/advanceSearch. | Nov. 24, 2023 | 270055
Carver | Unincorporated Areas of Carver County (22-05-1488P). | John P. Fahey, Chair, Carver County Board of County Commissioners, 211 Park Place, Norwood Young America, MN 55368. | Carver County Public Health and Environment, 600 East 4th Street, Chaska, MN 55318. | https://msc.fema.gov/portal/advanceSearch. | Nov. 24, 2023 | 270049
Ohio:
Butler | Unincorporated Areas of Butler County (22-05-1307P). | T.C. Rogers, President, Butler County Board of Commissioners, Government Services Center, 315 High Street, 6th Floor, Hamilton, OH 45011. | Butler County Administrator Center, Building and Zoning Department, 130 High Street, 1st Floor, Hamilton, OH 45011. | https://msc.fema.gov/portal/advanceSearch. | Nov. 27, 2023 | 390037
Franklin | Unincorporated Areas of Franklin County (22-05-1492P). | John O'Grady, Commissioner, Franklin County Board of Commissioners, 373 South High Street, 26th Floor, Columbus, OH 43215. | Franklin County, Development Department, 280 East Broad Street, Columbus, OH 43215. | https://msc.fema.gov/portal/advanceSearch. | Dec. 5, 2023 | 390167
Franklin | Village of Canal Winchester (22-05-1492P). | The Honorable Michael Ebert, Mayor, Village of Canal Winchester, Municipal Building, 45 East Waterloo Street, Canal Winchester, OH 43110. | Planning and Zoning, 36 South High Street, Canal Winchester, OH 43110. | https://msc.fema.gov/portal/advanceSearch. | Dec. 5, 2023 | 390169
New York:
Suffolk | Town of Southampton (23-02-0078P). | Jay Schneiderman, Town Supervisor, Town of Southampton, 116 Hampton Road, Southampton, NY 11968. | Town Hall, 116 Hampton Road, Southampton, NY 11968. | https://msc.fema.gov/portal/advanceSearch. | Dec. 21, 2023 | 365342
Suffolk | Village of Westhampton Beach (23-02-0078P). | The Honorable Gary Vegliante, Mayor, Village of Westhampton, 165 Mill Road, Westhampton Beach, NY 11978. | Village Hall, 165 Mill Road, Westhampton Beach, NY 11978. | https://msc.fema.gov/portal/advanceSearch. | Dec. 21, 2023 | 365345
Texas:
Dallas | City of Grand Prairie (22-06-0112P). | The Honorable Ron Jensen, Mayor, City of Grand Prairie, 300 West Main Street, Grand Prairie, TX 75053. | City Development Center, 206 West Church Street, Grand Prairie, TX 75050. | https://msc.fema.gov/portal/advanceSearch. | Nov. 22, 2023 | 485472
Dallas | City of Irving (22-06-0112P). | The Honorable Rick Stopfer, Mayor, City of Irving, City Hall, 825 West Irving Boulevard, Irving, TX 75060. | Capital Improvement Program Department, 825 West Irving Boulevard, Irving, TX 75060. | https://msc.fema.gov/portal/advanceSearch. | Nov. 22, 2023 | 480180
Tarrant | City of Arlington (22-06-2179P). | The Honorable Jim Ross, Mayor, City of Arlington, P.O. Box 90231, Arlington, TX 76004. | City Hall, 101 West Abram Street, Arlington, TX 76010. | https://msc.fema.gov/portal/advanceSearch. | Nov. 6, 2023 | 485454
Tarrant | City of Fort Worth (23-06-1016X). | The Honorable Mattie Parker, Mayor, City of Fort Worth, 200 Texas Street, Fort Worth, TX 76102. | Department of Transportation and Public Works, 1000 Throckmorton Street, Fort Worth, TX 76102. | https://msc.fema.gov/portal/advanceSearch. | Oct. 23, 2023 | 480596
Tarrant | City of Haltom City (21-06-2662P). | The Honorable An Truong, Mayor, City of Haltom City, City Hall, 5024 Broadway Avenue, Haltom City, TX 76117. | City Hall, 5024 Broadway Avenue, Haltom City, TX 76117. | https://msc.fema.gov/portal/advanceSearch. | Nov. 22, 2023 | 480599
Tarrant | City of North Richland Hills (21-06-2662P). | The Honorable Oscar Trevino, Jr., Mayor, City of North Richland Hills, City Hall, P.O. Box 820609, North Richland Hills, TX 76182. | City Hall, 4301 City Point Drive, North Richland Hills, TX 76180. | https://msc.fema.gov/portal/advanceSearch. | Nov. 22, 2023 | 480607
Washington:
Kittitas | City of Cle Elum (21-10-1313P). | The Honorable Jay McGowan, Mayor, City of Cle Elum, 119 West 1st Street, Cle Elum, WA 98922. | City Hall, 119 West 1st Street, Cle Elum, WA 98922. | https://msc.fema.gov/portal/advanceSearch. | Dec. 8, 2023 | 530096
Kittitas | City of Roslyn (21-10-1313P). | The Honorable Brent Hals, Mayor, City of Roslyn, P.O. Box 451, Roslyn, WA 98941. | City Hall, 201 South 1st Street, Roslyn, WA 98941. | https://msc.fema.gov/portal/advanceSearch. | Dec. 8, 2023 | 530299
Kittitas | Unincorporated Areas of Kittitas County (21-10-1313P). | Cory Wright, Commissioner, Kittitas County Board of Commissioners, 205 West 5th Avenue, Suite 108, Ellensburg, WA 98926. | Kittitas County, Department of Public Works, 411 North Ruby Street, Suite 1, Ellensburg, WA 98926. | https://msc.fema.gov/portal/advanceSearch. | Dec. 8, 2023 | 530095

[FR Doc. 2023-18285 Filed 8-24-23; 8:45 am]

BILLING CODE 9110-12-P